DEPARTMENT OF THE INTERIOR

Bureau of Reclamation

Availability of the Reclamation National Environmental Policy Act Handbook

AGENCY: Bureau of Reclamation, Interior.

ACTION: Notice.

SUMMARY: The Bureau of Reclamation (Reclamation) is announcing the availability of its updated National Environmental Policy Act (NEPA) Handbook. This handbook is intended for use as guidance by Reclamation's NEPA practitioners. It provides a quick reference for existing laws, regulations, policies, and other guidance. It is a guidance document, and as such, does not create or alter any policy or otherwise implement any law and should not be cited as a source of authority. Reclamation is announcing the availability of its NEPA Handbook to assure transparency of its efforts to the public.

ADDRESSES: The updated Reclamation NEPA Handbook is available online at www.usbr.gov/NEPA.

FOR FURTHER INFORMATION CONTACT: Cathy Cunningham, Water and Environmental Resources Division, Bureau of Reclamation, P.O. Box 25007, Denver, Colorado 80225; telephone 303-445-2875.

Grayford F. Payne,
Deputy Commissioner—Policy, Administration and Budget.

[FR Doc. 2012-3963 Filed 2-17-12; 8:45 am]

BILLING CODE 4310-MN-P